DEPARTMENT OF ENERGY

Federal Energy Regulatory Commission

[Docket No. EL20-16-000]

Notice of Petition for Declaratory Order; Tri-State Generation and Transmission Association, Inc.

Take notice that on December 23, 2019, pursuant to sections 205 and 206 of the Federal Power Act,¹ Rule 207(a)(2) of the Federal Energy Regulatory Commission's (Commission) Rules of Practice and Procedure, 18 CFR 385.207(a)(2) (2019), Tri-State Generation and Transmission Association, Inc. (Petitioner), filed a petition for declaratory order requesting that the Commission terminate controversy and remove uncertainty regarding the La Plata Electric Association, Inc. and United Power, Inc. complaints, subject to the Commission's regulatory jurisdiction under sections 205 and 206 of the Federal Power Act, as more fully explained in the petition.

¹ 16 U.S.C. 824d, 824e (2019).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern time on January 13, 2020.

Dated: December 30, 2019.
Nathaniel J. Davis, Sr.,
Deputy Secretary.

[FR Doc. 2019-28498 Filed 1-3-20; 8:45 am]

BILLING CODE 6717-01-P